NUCLEAR REGULATORY COMMISSION

[NRC-2012-0090]

Biweekly Notice; Applications and Amendments to Facility Operating Licenses and Combined Licenses Involving No Significant Hazards Considerations

Background

Pursuant to Section 189a. (2) of the Atomic Energy Act of 1954, as amended (the Act), the U.S. Nuclear Regulatory Commission (the Commission or the NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from March 22, 2012 to April 4, 2012. The last biweekly notice was published on April 3, 2012 (77 FR 20070).

ADDRESSES: You may access information and comment submissions related to this document, which the NRC possesses and is publicly available, by searching on http://www.regulations.gov under Docket ID NRC-2012-0090. You may submit comments by the following methods:

• Federal rulemaking Web site: Go to http://www.regulations.gov and search for Docket ID NRC-2012-0090. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0090 when contacting the NRC about the availability of information regarding this document. You may access information related to this document, which the NRC possesses and is publicly available, by the following methods:

• Federal Rulemaking Web Site: Go to http://www.regulations.gov and search for Docket ID NRC-2012-0090.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0090 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in Title 10 of the Code of Federal Regulations (10 CFR), 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's ”Rules of Practice for Domestic Licensing Proceedings” in 10 CFR part 2. Interested person(s) should consult a current copy of 10 CFR 2.309, which is available at the NRC's PDR, located at One White Flint North, Room O1-F21, 11555 Rockville Pike (first floor), Rockville, Maryland 20852. The NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital information (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC PDR Reference staff at 1-800-397-4209, 301-415-4737, or by email to pdr.resource@nrc.gov.

Carolina Power and Light Company, Docket No. 50-261, H. B. Robinson Steam Electric Plant, Unit No. 2, (HBRSEP), Darlington County, South Carolina

Date of amendment request: February 10, 2012.

Description of amendment request: The proposed change revises the Technical Specification (TS) surveillance requirements (SRs) for addressing a missed surveillance. The change is consistent with the NRC-approved Revision 6 of Technical Specification Task Force (TSTF) Standard Technical Specifications (STSs) Change Traveler TSTF-358, “Missed Surveillance Requirements.”

Basis for proposed no significant hazards consideration determination: As required by 10 CFR 50.91(a), the licensee has provided its analysis of the issue of no significant hazards consideration, which is presented below:

1. The proposed change does not involve a significant increase in the probability or consequences of an accident previously evaluated.

The proposed change to incorporate the requirements of improved STS SR 3.0.3 into corresponding HBRSEP TS SR 3.0.3, respectively, does not affect the design or operation of the plant. The proposed change involves revising the existing HBRSEP custom TS to be consistent with NUREG-1431, Revision 3, to facilitate the incorporation of TSTF-358 into the TS. The proposed change involves no technical changes to the existing TS as it merely clarifies how SRs are met. As such, these changes are administrative in nature and do not affect initiators of analyzed events or assumed mitigation of accident or transient events.

Therefore, the proposed change does not involve a significant increase in the probability or consequences of an accident previously evaluated.

2. The proposed change does not create the possibility of a new or different kind of accident from any previously evaluated.

The proposed change to incorporate the requirements of improved STS SR 3.0.3 into corresponding HBRSEP TS SR 3.0.3, respectively, does not involve a physical alteration to the plant (no new or different type of equipment will be installed) or changes in methods governing normal plant operation. The proposed change revises the existing HBRSEP TS to be consistent with NUREG-1431, Revision 3, to clarify how SRs are met and facilitates the incorporation of TSTF-358 for addressing missed surveillances. As such, the proposed change will not impose any new or different requirements or eliminate any existing requirements.

Therefore, the proposed change does not create the possibility of a new or different kind of accident from any accident previously evaluated.

3. The proposed change does not involve a significant reduction in the margin of safety.

The proposed change to incorporate the requirements of improved STS SR 3.0.3 into corresponding HBRSEP TS SR 3.0.3, respectively, does not affect plant operation or safety analysis assumptions in any way. The change provides additional clarification on how a surveillance is met and facilitates the incorporation of TSTF-358 for addressing missed surveillances. The change is administrative in nature and does not affect the operation of safety-related systems, structures, or components.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David T. Conley, Manager—Senior Counsel—Legal Department, Progress Energy Service Company, LLC, Post Office Box 1551, Raleigh, North Carolina 27602.

NRC Branch Chief: Douglas A. Broaddus.

Carolina Power and Light Company, Docket No. 50-261, H. B. Robinson Steam Electric Plant, Unit No. 2, Darlington County, South Carolina

Date of amendment request: March 16, 2012.

Description of amendment request: The proposed change would make corrections in the Technical Specification (TS) Table 3.3.1-1 Note 1 for Overtemperature Delta Temperature (OTΔT). The corrections are consistent with NUREG-1431, “Standard Technical Specification Westinghouse Plants”, Revision 3. The proposed change to TS Table 3.3.1-1 Note 1 corrects the inequality symbol associated with the nominal Reactor Coolant System operating pressure (P'). The P' provided in TS Table 3.3.1-1 Note 1 was incorrectly specified as less than or equal to (≤) 2235 pounds per square inch gage (psig) and is being corrected to greater than or equal to (≥) 2235 psig. In addition, the f(ΔI) penalty factor for axial power distribution values less than −17 percent Rated Thermal Power (RTP) or less than 12 percent RTP is currently specified as “2.4” and is being clarified to 2.4%.

Basis for proposed no significant hazards consideration determination: As required by 10 CFR 50.91(a), the licensee has provided its analysis of the issue of no significant hazards consideration, which is presented below:

1. Does the proposed change involve a significant increase in the probability or consequences of an accident previously evaluated?

Response: No.

The proposed change is a correction to the equation for OTΔT setpoint and the inputs for f(ΔI) shown in Table 3.3.1-1 Note 1. The OTΔT equation and variables values serve as a model for trip setpoint calculation. The errors in Table 3.3.1-1 being addressed by this proposed change were contained in and introduced during the implementation of NUREG-1431, Improved Standard Technical Specifications, Revision 1. The proposed changes are consistent with NUREG-1431, Revision 3, which has corrected these errors. The OTΔT parameter limits continue to be determined using the NRC methodologies and OTΔT will continue to be within the limit assumed in the accident analysis. As a result, neither the probability nor the consequences of any accident previously evaluated will be affected.

Therefore, the proposed change does not involve a significant increase in the probability or consequences of an accident previously evaluated.

2. Does the proposed change create the possibility of a new or different kind of accident from any accident previously evaluated?

Response: No.

No new or different accidents result from the proposed changes. The changes do not involve a physical alteration of the plant (i.e., no new or different type of equipment will be installed) or a change in the methods governing normal plant operation. In addition, the changes do not impose any new or different requirements or eliminate any existing requirements. The changes do not alter assumptions made in the safety analysis. The proposed changes are consistent with the safety analysis assumptions and current plant operating practice.

Therefore, the proposed change does not create the possibility of a new or different kind of accident from any accident previously evaluated.

3. Does the proposed change involve a significant reduction in a margin of safety?

Response: No.

This change will have no effect on the margin of safety. This proposed change is a correction to the OTΔT setpoint calculation and the inputs for f(ΔI).

Therefore, the proposed change does not involve a significant reduction in a margin of safety.

The NRC staff has reviewed the licensee's analysis and, based on this review, it appears that the three standards of 10 CFR 50.92(c) are satisfied. Therefore, the NRC staff proposes to determine that the amendment request involves no significant hazards consideration. Attorney for licensee: David T. Conley, Manager—Senior Counsel—Legal Department, Progress Energy Service Company, LLC, Post Office Box 1551, Raleigh, North Carolina 27602. NRC Branch Chief: Douglas A. Broaddus.

Entergy Gulf States Louisiana, LLC, and Entergy Operations, Inc., Docket No. 50-458, River Bend Station, Unit 1, West Feliciana Parish, Louisiana

Date of amendment request: December 8, 2011.

Description of amendment request: The proposed amendment would: (1) extend the frequency of Surveillance Requirement (SR) 3.3.8.1.3 (calibration of loss of power instrumentation) from 18 to 24 months, and (2) revise the Allowable Values of certain functions in Table 3.3.8.1-1 of Technical Specification (TS) 3.3.8.1, “Loss of Power (LOP) Instrumentation.” The SR extension will make the administration and performance of that SR consistent with the River Bend Station's 24-month operating cycles, as approved by the NRC in Amendment No. 168 dated August 31, 2010. The changes to the Allowable Values are necessary to address the discovery of a non-conservative value in the affected TS 3.3.8.1.

Basis for proposed no significant hazards consideration determination: As required by 10 CFR 50.91(a), the licensee has provided its analysis of the issue of no significant hazards consideration, which is presented below:

1. Does the proposed amendment involve a significant increase in the probability or consequences of an accident previously evaluated?

Response: No.

SR extension:

The proposed TS change revises a surveillance testing interval to facilitate a change in the operating cycle length. The proposed TS change involves no physical alteration of the plant. The proposed TS change does not degrade the performance of, or increase the challenges to, any safety systems assumed to function in the accident analysis. The proposed TS change does not adversely affect the usefulness of the SR in evaluating the operability of required system and components, or the way in which the surveillance is performed. In addition, the frequency of surveillance testing is not considered an initiator of any analyzed accident, nor does a revision to the frequency introduce any accident initiators. Therefore, the proposed change does not involve a significant increase in the probability of an accident previously evaluated.

The consequences of a previously evaluated accident are not significantly increased. The proposed change does not affect the performance of any equipment credited to mitigate the radiological consequences of an accident. Evaluation of the proposed TS change has demonstrated that the availability of credited equipment is not significantly affected because of other more frequent testing that is performed, the availability of redundant systems and equipment, and the high reliability of the equipment. Historical review of surveillance test results and associated maintenance records did not find evidence of failures that would invalidate the above conclusions.

AV changes:

The change in the degraded voltage protection voltage and time delay allowable values allows the protection scheme to function as originally designed. (This change will involve alteration of nominal trip setpoints in the field, also to be reflected in revisions to the calibration procedures.) The proposed allowable values ensure that the Class 1 E distribution system remains connected to the offsite power system when adequate offsite voltage is available and motor starting transients are considered. Calculations have demonstrated that adequate margin is present to support the decrease in the minimum allowable Division 3 degraded voltage. The proposed time delay continues to provide equipment protection while preventing a premature separation from offsite power. The diesel start due to a Loss of Coolant Accident signal is not adversely affected by this change. During an actual degraded voltage condition, the degraded voltage time delays will continue to isolate the Class 1 E distribution system from offsite power before the diesel is ready to assume the emergency loads, which is the limiting time basis for mitigating system responses to the accident. For this reason, the existing loss of power/loss of coolant accident analysis continues to be valid.

Therefore, the proposed change does not involve a significant increase in the probability or consequences of an accident previously evaluated.

2. Does the proposed amendment create the possibility of a new or different kind of accident from any accident previously evaluated?

Response: No.

SR extension:

The proposed TS change revises a surveillance testing interval to facilitate a change in the operating cycle length. The proposed TS change does not introduce any failure mechanisms of a different type than those previously evaluated, since there are no physical changes being made to the facility. No new or different equipment is being installed. No installed equipment is being operated in a different manner. As a result, no new failure modes are being introduced. The way surveillance tests are performed remains unchanged. A historical review of surveillance test results and associated maintenance records indicated there was no evidence of any failures that would invalidate the above conclusions.

AV changes:

The proposed change involves the revision of degraded voltage protection voltage and time delay allowable values to satisfy existing design requirements.

Therefore, the proposed change does not create the possibility of a new or different kind of accident from any previously evaluated.

3. Does the proposed amendment involve a significant reduction in a margin of safety?

Response: No.

SR extension:

The proposed TS change revises a surveillance testing interval to facilitate a change in the operating cycle length. The effect of this change on system availability is not significant, based on other more frequent testing that is performed, the existence of redundant systems and equipment, and overall system reliability. Evaluation has shown there is no evidence of time dependent failures that would affect the availability of the systems. The proposed change does not adversely affect the condition or performance of structures, systems, and components relied upon for accident mitigation. The proposed change does not result in any hardware changes or in any changes to the analytical limits assumed in accident analyses. Existing operating margin between plant conditions and actual plant setpoints is not significantly reduced due to these changes. The proposed change does not significantly affect any safety analysis assumptions or results.

AV changes:

The proposed protection voltage allowable values are low enough to prevent inadvertent power supply transfer, but high enough to ensure that sufficient voltage is available to the required equipment. The proposed time delay continues to provide equipment protection while preventing a premature separation from offsite power. The diesel start due to a Loss of Coolant Accident signal is not adversely affected by this change. During an actual degraded voltage condition, the degraded voltage time delays will continue to isolate the Class 1 E distribution system from off site power before the diesel is ready to assume the emergency loads. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Entergy Nuclear Vermont Yankee (VY), LLC and Entergy Nuclear Operations, Inc.,

Docket No. 50-271, Vermont Yankee Nuclear Power Station, Vernon, Vermont

Date of amendment request: February 1, 2012.

Description of amendment request: The proposed amendment would revise the Technical Specification 3.3.B.3 allowances for bypassing the Rod Worth Minimizer (RWM) consistent with the allowances recommended in the Standard Technical Specifications.

Basis for proposed no significant hazards consideration determination: As required by 10 CFR 50.91(a), the licensee has provided its analysis of the issue of no significant hazards consideration which is presented below:

1. Does the proposed amendment involve a significant increase in the probability or consequences of an accident previously evaluated?

Response: No.

The proposed amendment does not significantly increase the probability or consequences of an accident. The RWM is credited to minimize the probability and consequences of a control rod drop accident however this amendment proposes to substitute additional administrative requirements that ensure the analysis remains conservative and bounding. The additional requirements are considered adequate so as not to have a significant impact on the probability or consequences of an accident. Individuals performing the additional verification of selected control rods are qualified and use additional process controls to ensure they perform the necessary verifications. Therefore, the proposed amendment does not involve a significant increase in the probability or consequences of an accident previously evaluated.

2. Does the proposed amendment create the possibility of a new or different kind of accident from any accident previously evaluated?

Response: No.

The proposed amendment does not involve any new modes of operation. The change established additional administrative controls for when the RWM system is inoperable. The administrative controls involve performing an independent verification that the correct control rod is selected. The proposed amendment does not change how the control rods are moved or change the design configuration of the control rods. No new accident precursors are introduced. No new or different types of equipment will be installed. The methods governing plant operation remain bounded by current safety analysis assumptions.

Therefore, the proposed change does not create the possibility of a new or different kind of accident from any accident previously evaluated.

3. Does the proposed amendment involve a significant reduction in a margin of safety?

Response: No.

The proposed amendment establishes additional administrative requirements for when the RWM is inoperable. The additional administrative controls provide reasonable assurance that station safety analysis results are unchanged and existing safety margins are preserved. The amendment ensures that control rod selection remains within established withdrawal sequences and minimizes the probability that a human error will result is an out of sequence rod being moved. Therefore, the proposed amendment will not involve a significant reduction in the margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 400 Hamilton Avenue, White Plains, NY 10601.

NRC Branch Chief: George Wilson.

Entergy Nuclear Vermont Yankee (VY), LLC and Entergy Nuclear Operations, Inc., Docket No. 50-271, Vermont Yankee Nuclear Power Station, Vernon, Vermont

Date of amendment request: March 12, 2012.

Description of amendment request: The proposed amendment would request to approve revision of License Renewal Commitment (LRC) No. 3 and No. 6 as described in Appendix A of Supplement 2 to NUREG-1907. Specifically, LRC No. 3 would be revised to clarify that cleaning and inspecting of the fire pump diesel storage tank is not required in order to perform ultrasonic thickness (UT) measurements of the tank bottom surface and LRC No. 6 would be revised to use manual cycle counting to track and compare accumulated cycles against allowable values to determine if cumulative usage factors are required to be updated.

The proposed amendment would also approve revision of LRC No. 16 and LRC No. 19, which require, respectively, implementation of the One Time Inspection Program as described License Renewal Application (LRA) Section B.1.21, and implementation of the Selective Leaching Program as described in LRA Section B.1.25. Specifically, the proposed amendment would approve revising the Aging Management Program for Selective Leaching described in LRA Section B.1.25 to provide alternative assessment methods for gray cast iron components and approve revising the One-Time Inspection Program described in LRA Section B.1.21 to remove the reactor vessel flange leak-off line and main stream line flow restrictors from the program.

Basis for proposed no significant hazards consideration determination: As required by 10 CFR 50.91(a), the licensee has provided its analysis of the issue of no significant hazards consideration which is presented below:

1. Does the proposed amendment involve a significant increase in the probability or consequences of an accident previously evaluated?

Response: No.

The amendment does not significantly increase the probability of an accident since it does not involve a change to any plant equipment that initiates a plant accident. The change revises license renewal commitments and aging management programs. License renewal commitments and aging management programs are in place to ensure that the effects of aging are properly managed for the systems, structures and components within the scope of the programs during the period of extended operation. The proposed changes are not an initiator or mitigator of any previously evaluated accidents. Therefore, the proposed amendment does not involve a significant increase in the probability or consequences of an accident previously evaluated.

2. Does the proposed amendment create the possibility of a new or different kind of accident from any accident previously evaluated?

Response: No.

The proposed amendment does not create the possibility of a new or different kind of accident from any accident previously evaluated since it does not involve any physical alteration of plant equipment and does not change the method by which any safety-related system performs its function. The change revises license renewal commitments and aging management programs. License renewal commitments and aging management programs are in place to ensure that the effects of aging are properly managed for the systems, structures and components within the scope of the programs during the period of extended operation. No new or different types of equipment will be installed and the basic operation of installed equipment is unchanged. Therefore, the proposed amendment does not create the possibility of a new or different kind of accident from any accident previously evaluated.

3. Does the proposed amendment involve a significant reduction in a margin of safety?

Response: No.

The proposed amendment does not affect design codes or design margins. The change revises license renewal commitments and aging management programs. License renewal commitments and aging management programs are in place to ensure that the effects of aging are properly managed for the systems, structures and components within the scope of the programs during the period of extended operation. The proposed changes do not have the ability to affect analyzed safety margins. Therefore, operation of VY in accordance with the proposed amendment will not involve a significant reduction in the margin to safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 400 Hamilton Avenue, White Plains, NY 10601.

NRC Branch Chief: George Wilson.

Entergy Operations, Inc., Docket No. 50-382, Waterford Steam Electric Station, Unit 3, St. Charles Parish, Louisiana

Date of amendment request: October 13, 2011, as supplemented by letters dated November 25, 2011, and January 18, 2012.

Description of amendment request: The amendment would modify Technical Specification (TSs) 3/4.7.4 Table 3.7-3, “Ultimate Heat Sink Minimum Fan Requirements Per Train,” which indicates the minimum Dry Cooling Tower (DCT) and Wet Cooling Tower (WCT) fan requirements for given meteorological conditions. The amendment would modify the WCT fan requirements by placing a limit on the number of inoperable fans per cell. This change is needed because the current TS requirement was found to be non-conservative. To address non-conservatisms in the TS, Entergy Operations, Inc. (Entergy, the licensee), has implemented administrative controls that limit the number of WCT fans allowed out-of-service per cell. In concert with the above change, the dry bulb temperature limits for the DCT and wet bulb temperature limits for the WCT will also be lowered to accommodate the increased heat load resulting from the Replacement Steam Generators.

Basis for proposed no significant hazards consideration determination: As required by 10 CFR 50.91(a), the licensee has provided its analysis of the issue of no significant hazards consideration, which is presented below:

1. Does the proposed change involve a significant increase in the probability or consequences of an accident previously evaluated?

Response: No.

The proposed change modifies TS 3/4.7.4 Table 3.7-3 to be consistent with the revised design basis calculation. This change is necessary to preserve the assumptions and limits of the revised UHS [ultimate heat sink] design basis calculation. The calculation determines the maximum number of cooling tower fans allowed out-of-service for a given wet or dry bulb temperature and establishes more restrictive cooling tower fan operating requirements. The proposed change does not directly affect any material condition of the plant that could contribute to an accident or that could contribute to the consequences of an accident. The proposed change ensures that the mitigating effects of the UHS will be consistent with the design basis analysis. Therefore, the proposed change will not involve a significant increase in the probability or consequences of any accident previously evaluated.

2. Does the proposed change create the possibility of a new or different kind of accident from any accident previously evaluated?

Response: No.

The proposed change modifies TS 3/4.7.4 Table 3.7-3 to be consistent with the revised design basis calculation. The revised calculation lowers the dry and wet bulb temperature limits to account for increased heat duty for the Replacement Steam Generators. This change also implements more restrictive WCT minimum fan requirements. The proposed change to Table 3.7-3 does not alter the operation of the plant or the manner in which the plant is operated such that it created credible new failure mechanisms, malfunctions, or accident initiators.

Therefore, the proposed change will not create the possibility of a new or different kind of accident from any accident previously evaluated.

3. Does the proposed change involve a significant reduction in a margin of safety?

Response: No.

The proposed change modifies TS 3/4.7.4 Table 3.7-3 to be consistent with the revised design basis calculation. More restrictive cooling tower fan operability requirements result from placing lower limits on the wet and dry bulb temperatures in the TS and limits on the number of WCT out-of-service fans per cell. These revised temperatures are based on calculations ECM98-009 and ECl91-029, and an additional allowance to account for minor inaccuracies. The TS Bases 3.4/7.4 indicates that the calculated temperature values associated with the DCT and WCT fan requirements have been rounded in the conservative direction and lowered at least one full degree to account for minor inaccuracies. The proposed change preserves the margin of safety by ensuring that the minimum number of operable fans per cell for a given temperature are capable of removing the heat duty for the UHS. The proposed change does not exceed or alter a design basis or safety limit.

Therefore, the proposed change will not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Entergy Operations, Inc., Docket No. 50-382, Waterford Steam Electric Station, Unit 3, St. Charles Parish, Louisiana

Date of amendment request: November 21, 2011.

Description of amendment request: The amendment would relocate the following Technical Specifications (TSs) to the Waterford Steam Electric Station, Unit 3 (Waterford 3), Technical Requirements Manual: (a) TS 3.4.6, “Chemistry,” (b) TS 3.7.5, “Flood Protection,” (c) TS 3.7.9, “Sealed Source Contamination,” and (d) TS 3.9.5, “Communications.”

Basis for proposed no significant hazards consideration determination: As required by 10 CFR 50.91(a), the licensee has provided its analysis of the issue of no significant hazards consideration, which is presented below:

1. Does the proposed change involve a significant increase in the probability or consequences of an accident previously evaluated?

Response: No.

This proposed change relocates Technical Specifications (TS) 3.4.6 (Chemistry), TS 3.7.5 (Flood Protection), TS 3.7.9 (Sealed Source Contamination), and TS 3.9.5 (Communications) to the Waterford 3 Technical Requirements Manual (TRM). This is consistent with the requirements of [10 CFR 50.36(c)(2)(ii)] and aligns with NUREG-1432 (Combustion Engineering Standard Technical Specifications).

Each TS relocation was evaluated against the [10 CFR 50.36(c)(2)(ii)] criteria to demonstrate no impact on the design basis accident or probability. Consequently, this change does not involve a significant increase in the probability or consequences of an accident previously evaluated.

2. Does the proposed change create the possibility of a new or different kind of accident from any accident previously evaluated?

Response: No.

The proposed TS 3.4.6 (Chemistry), TS 3.7.5 (Flood Protection), TS 3.7.9 (Sealed Source Contamination), and TS 3.9.5 (Communications) relocation to the Waterford 3 TRM does not change any of the controls necessary for design basis accident initiation or mitigation. The proposed change is allowable because the evaluation against the [10 CFR 50.36(c)(2)(ii)] criteria shows no impact. This provides assurance that the design basis accidents will remain within their initial assumptions and consequently, there is no possibility of a new or different kind of accident due to this change.

3. Does the proposed change involve a significant reduction in a margin of safety?

Response: No.

The proposed TS 3.4.6 (Chemistry), TS 3.7.5 (Flood Protection), TS 3.7.9 (Sealed Source Contamination), and TS 3.9.5 (Communications) relocation to the Waterford 3 TRM will not affect protection criterion for plant equipment and will not reduce the margin of safety. The Waterford 3 TRM requires the [10 CFR 50.59] process be entered for any corresponding change, thus maintaining the required margin of safety. Consequently, there is no significant reduction in a margin of safety due to this change.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Florida Power Corporation, et al., Docket No. 50-302, Crystal River Unit 3 Nuclear Generating Plant, Citrus County, Florida

Date of amendment request: March 19, 2012.

Description of amendment request: The NRC issued Amendment No. 239, Departure from a Method of Evaluation for the Auxiliary Building Overhead Crane (FHCR-5), on December 27, 2011. Amendment No. 239 was approved to be implemented within 180 days of issuance of the amendment. In license amendment request 312, Revision 0, the licensee requested additional time to complete the implementation of Amendment No. 239 from 180 days to, “Implementation shall be completed 90 days prior to moving a spent fuel shipping cask with FHCR-5.” The licensee requested extending the implementation period to allow for installation and testing of the new single failure proof FHCR-5.

Basis for proposed no significant hazards consideration determination: As required by 10 CFR 50.91(a), the licensee has provided its analysis of the issue of no significant hazards consideration, which is presented below:

1. Does not involve a significant increase in the probability or consequences of an accident previously evaluated.

The proposed LAR implementation schedule change request is administrative in nature and does not require any physical plant modifications, physically affect any plant systems or components, or entail changes in plant operation. The spent fuel will remain in the pool and continue to be cooled until the cask operations commence after implementation is complete.

Therefore, this change does not involve a significant increase in the probability or consequences of an accident previously evaluated.

2. Does not create the possibility of a new or different kind of accident from any accident previously evaluated.

The proposed LAR implementation schedule change request is administrative in nature and does not require any physical plant modifications, physically affect any plant systems or components, or entail changes in plant operation. Maintenance and modification activities near the spent fuel pools are controlled to preclude the possibility of a heavy load drop. No new accident scenarios, failure mechanisms or limiting single failures are introduced as result of the proposed change. The proposed amendment implementation schedule change request has no adverse effects on any safety-related system.

Therefore, the proposed change will not create the possibility of a new or different kind of accident from any accident previously evaluated.

3. Does not involve a significant reduction in a margin of safety.

The proposed LAR implementation schedule change request is administrative in nature and does not require any physical plant modifications, physically affect any plant systems or components, or entail changes in plant operation. The proposed amendment implementation schedule change request does not involve a significant reduction in a margin of safety.

Based on the above, FPC [the licensee] concludes that the proposed license amendment request presents no significant hazards consideration under the standards set forth in 10 CFR 50.92(c) and, accordingly, a finding of “no significant hazards consideration” is justified.

The NRC staff has reviewed the licensee's analysis and, based on this review, it appears that the three standards of 50.92(c) are satisfied. Therefore, the NRC staff proposes to determine that the amendment request involves no significant hazards consideration.

Attorney for licensee: David T. Conley, Associate General Counsel II—Legal Department, Progress Energy Service Company, LLC, Post Office Box 1551, Raleigh, North Carolina 27602.

NRC Branch Chief: Douglas A. Broaddus.

NextEra Energy Seabrook, LLC Docket No. 50-443, Seabrook Station, Unit No. 1, Rockingham County, New Hampshire

Date of amendment request: May 14, 2010, as supplemented August 24, 2010, September 16, 2011, and March 15, 2012.

Description of amendment request: The license amendment request was originally noticed in the Federal Register on July 13, 2010 (75 FR 39979). This notice is being reissued in its entirety to include a revised description of the amendment request. The proposed changes would revise the Seabrook Station Technical Specifications (TSs) governing the Containment Enclosure Emergency Air Cleanup System (CEEACS). The proposed amendment would change TS Surveillance Requirement (SR) 4.6.5.1.d.4 so that it will demonstrate integrity of the containment enclosure building rather than operability of CEEACS. The proposed amendment relocates SR 4.6.5.1.d.4 with modifications to new SR 4.6.5.2.b. Additionally, the proposed amendment makes some minor wording changes, deletes a definition, and removes a moot footnote.

Basis for proposed NSHC determination: As required by 10 CFR 50.91(a), the licensee has provided its analysis of the issue of no significant hazards consideration. The NRC staff has reviewed the licensee's analysis against the standards of 10 CFR 50.92(c). The NRC staff's review is presented below:

1. The proposed change does not involve a significant increase in the probability or consequences of an accident previously evaluated

The proposed change does not impact the physical function of plant structures, systems, or components (SSCs) or the manner in which SSCs perform their design function. The proposed changes neither adversely affect accident initiators or precursors, nor alter design assumptions. The proposed changes do not alter or prevent the ability of operable SSCs to perform their intended function to mitigate the consequences of an initiating event within the assumed acceptance limits.

This change is a revision to the TSs SRs for the CEEACS, which is a mitigation system designed to prevent uncontrolled releases of radioactivity into the environment. The proposed amendment would change TS SR 4.6.5.1.d.4 so that it will demonstrate integrity of the containment enclosure building rather than operability of CEEACS. The proposed amendment relocates SR 4.6.5.1.d.4 with modifications to new SR 4.6.5.2.b. The CEEACS is not an initiator or precursor to any accident previously evaluated. Therefore, the probability of any accident previously evaluated is not increased.

2. The proposed change does not create the possibility of a new or different kind of accident from any accident previously evaluated

The proposed change will not impact the accident analysis. The changes will not alter the requirements of the CEEACS or its function during accident conditions, and no new or different accidents result from the proposed changes to the TSs. The changes do not involve a physical alteration of the plant (i.e., no new or different type of equipment will be installed) or a significant change in the method of plant operation. The changes do not alter assumptions made in the safety analysis. Therefore, this request does not create the possibility of a new or different kind of accident from any accident previously evaluated.

3. The proposed change does not involve a significant reduction in a margin of safety

Margin of safety is associated with confidence in the ability of the fission product barriers (i.e., fuel cladding, reactor coolant system pressure boundary, and containment structure) to limit the level of radiation dose to the public. The proposed changes do not involve a significant change in the method of plant operation, and no accident analyses will be affected by the proposed changes. Additionally, the proposed changes will not relax any criteria used to establish safety limits, will not relax any safety system settings, and will not relax the bases for any limiting conditions for operation. The safety analysis acceptance criteria are not affected by this change. The proposed change will not result in plant operation in a configuration outside the design bases. The proposed change does not adversely affect systems that respond to safely shutdown the plant and to maintain the plant in a safe shutdown condition. Therefore, these proposed changes do not involve a significant reduction in a margin of safety.

The NRC staff has reviewed the licensee's analysis and, based on this review, it appears that the three standards of 50.92(c) are satisfied. Therefore, the NRC staff proposes to determine that the amendment request involves NSHC.

Attorney for licensee: M.S. Ross, Florida Power & Light Company, P.O. Box 14000, Juno Beach, FL 33408-0420.

NRC Branch Chief: Meena Khanna.

Northern States Power Company—Minnesota, Docket No. 50-263, Monticello Nuclear Generating Plant (MNGP), Wright County, Minnesota

Date of amendment request: January 20, 2012.

Description of amendment request: The licensee proposed to revise the MNGP Technical Specifications (TS), adding a new Section 5.6.5 to specify requirements about the contents of a Pressure and Temperature Limits Report (PTLR), and to replace existing TS requirements regarding reactor vessel heatup and cooldown rate limits and the pressure and temperature (P-T) limit curves referencing the PTLR. The proposed new Section 5.6.5 is consistent with the guidance provided in NRC Generic Letter 96-03, “Relocation of the Pressure Temperature Limit Curves and Low Temperature Overpressure Protection System Limits.” These new curves have been developed applying the analytical methodology described in Structural Integrity Associates (SIA) Report SIR-05-044-A, “Pressure-Temperature Limits Report Methodology for Boiling Water Reactors,” which has previously received NRC approval.

Basis for proposed no significant hazards consideration determination: As required by 10 CFR 50.91(a), the licensee has provided its analysis of the issue of no significant hazards consideration (NSHC). The NRC staff reviewed the licensee's NSHC analysis and has prepared its own as follows:

1. Does the proposed amendment involve a significant increase in the probability or consequences of an accident previously evaluated?

Response: No.

Appendix G of 10 CFR 50 requires licensees to establish limits for the pressure and temperature of the reactor coolant pressure boundary (RCPB) in order to protect against brittle failure. These limits are defined by P-T curves, which, when properly defined and adhered to, will protect the RCPB against brittle failure regardless of where these curves and associated requirements are located. The proposed amendment only affects the location of the P-T limits curves and associated requirements. The proposed amendment will continue to ensure that P-T limits acceptable to the NRC staff are employed at Monticello. There will be no design change associated with the proposed amendment. Thus, there will be no increase in the consequences of previously evaluated accidents. In addition, since previously evaluated accidents were not assumed to be initiated by the approved P-T limits, the proposed amendment, which will require operation within approved P-T limits, will cause no increase in the probability of occurrence of previously evaluated accidents.

2. Does the proposed amendment create the possibility of a new or different kind of accident from any accident previously evaluated?

Response: No.

The proposed amendment does not affect the safety function of the P-T limits, or any plant system, structure, or component (SSC) previously evaluated. The proposed amendment does not involve installation of any new SSC, and the existing installed SSC will not be operated in a new or different manner. The relocated P-T limit requirements will continue to protect the RCPB against brittle failures. No setpoints will be changed which would alter the dynamic response of plant equipment. Accordingly, no new failure modes are introduced. The proposed amendment, therefore, does not create the possibility of a new or different kind of accident from any previously evaluated.

3. Does the proposed amendment involve a significant reduction in a margin of safety?

Response: No.

The proposed amendment will not alter any previously used safety analysis methods, scenarios, acceptance criteria, or assumptions. Therefore, the proposed amendment does not involve a significant reduction in a margin of safety.

The NRC staff has reviewed the licensee's analysis and, based on its own analysis, concludes that the three standards of 10 CFR 50.92(c) are satisfied. Therefore, the NRC staff proposes to determine that the proposed amendment involves no significant hazards consideration.

Attorney for the licensee: Peter M. Glass, Assistant General Counsel, Xcel Energy Services, Inc., 414 Nicollet Mall, Minneapolis, MN 55401.

NRC Branch Chief: Shawn A. Williams, Acting.

Omaha Public Power District, Docket No. 50-285, Fort Calhoun Station, Unit No. 1, Washington County, Nebraska

Date of amendment request: December 23, 2011.

Description of amendment request: The proposed amendment would revise the Technical Specifications (TSs) to incorporate a new Radial Peaking Factor definition and to clarify Limiting Condition for Operation 2.10.2(6), “Shutdown CEA [Control Element Assembly] Insertion Limit During Power Operation.”

Basis for proposed no significant hazards consideration determination: As required by 10 CFR 50.91(a), the licensee has provided its analysis of the issue of no significant hazards consideration, which is presented below:

1. Does the proposed amendment involve a significant increase in the probability or consequences of an accident previously evaluated?

[Response: No.]

There are no changes in plant systems, plant control operating procedures or instrument alarm or trip settings associated with this LAR [license amendment request]. Because neither physical equipment nor operating methods for that equipment change, the probability of accident initiation does not change. Therefore, the proposed TS change does not does not involve a significant increase in the probability of an accident previously evaluated.

The Unrodded Integrated Radial Peaking factor (FR) has been used in past safety analyses and radiological consequence analyses. These analyses utilized the assumption that FR would remain within the TS limit during plant operations. These analyses verify, for anticipated operational occurrences (AOO) and postulated accidents (PA), that:

1. The departure from nucleate boiling ratio (DNBR) remains above the appropriate TS Safety Limit, and

2. The calculated offsite doses and control room dose for the affected events remain within the guidelines of 10 CFR 50.67, 10 CFR 100, and 10 CFR 50, Appendix A, General Design Criteria (GDC) 19, “Control room.”

All current safety analysis calculations are performed using the Maximum Radial Peaking Factor (FRT) limit (which remains unchanged), without exceeding the specified Safety Limits. The radiological consequence events have used the FRT limit to determine the source strength.

Because the results of the transient analyses meet the Safety Limits, and because the dose consequences of all analyzed events are within the guidelines of 10 CFR 50.67, 10 CFR 100, and GDC 19, the proposed LAR does not involve a significant increase in the consequences of an accident previously evaluated.

The remaining changes are administrative or editorial in nature. Therefore, operation of the plant in accordance with the proposed TS does not involve a significant increase in the probability or consequences of an accident previously evaluated.

2. Does the proposed amendment create the possibility of a new or different kind of accident from any accident previously evaluated?

[Response: No.]

Operation of the plant in accordance with the proposed TS does not add any new equipment, settings, or alter any plant operating practices. The Unrodded Integrated Radial Peaking Factor (FR) is a peaking factor no longer used in core design or safety analyses. The definition of “Maximum Radial Peaking Factor” (FRT) is incorporated into the TS and current requirements for, and references to FRT, are revised accordingly to reflect modern day incore monitoring systems. The remaining changes are administrative or editorial in nature. Since there are no changes in operating plant equipment, settings, or normal operating practices, operation in accordance with the proposed TS does not create the possibility of a new or different kind of accident from any accident previously evaluated.

3. Does the proposed amendment involve a significant reduction in a margin of safety?

[Response: No.]

The disposition of the [Updated Final Safety Analysis] Chapter 14 events, the setpoint verification, the fuel centerline melt (FCM) and the minimum DNBR analyses will continue to use the Maximum Radial Peaking Factor in accordance with approved methods. A detailed XCOBRA-IIIC model, which incorporates the limiting radial and axial power distributions, is applied to pre-trip departure from nucleate boiling (DNB) event analyses to determine the minimum DNBR values for limiting AOOs and PAs with the high thermal performance (HTP) DNB correlation. A post-trip event (Main Steam Line Break) has all CEAs inserted except for the most reactive CEA, and therefore has different radial and axial power distributions to which the Core Operating Limits Report (COLR) FRT limit does not apply. The calculated results for the limiting events meet the Safety Limits specified in the TS. A simplified XCOBRA-IIIC model is used in the verification of the plant protection system setpoints.

Therefore, operation of the plant in accordance with the proposed TS does not involve a significant reduction in the margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

Southern Nuclear Operating Company, Inc. Docket Nos. 52-025 and 52-026, Vogtle Electric Generating Plant (VEGP) Units 3 and 4, Burke County, Georgia

Date of amendment request: February 14, 2012, and revised on March 12, 2012.

Description of amendment request: The proposed changes would amend Combined License Nos. NPF-91 and NPF-92 for Vogtle Electric Generating Plant (VEGP) Units 3 and 4, respectively, in regard to the structural module stud size and spacing by increasing the carbon steel vertical stud spacing, decreasing the stainless steel stud diameter, and decreasing the stainless steel vertical and horizontal stud spacing in accordance with the design basis. The departure from Tier 2* information involves changes to Sheet 1 of plant-specific Design Control Document Figure 3.8.3-8.

Basis for proposed no significant hazards consideration determination: As required by 10 CFR 50.91(a), the licensee has provided its analysis of the issue of no significant hazards consideration, which is presented below:

1. Does the proposed amendment involve a significant increase in the probability or consequences of an accident previously evaluated?

Response: No

The design function of the containment modules is to support the reactor coolant system components and related piping systems and equipment. The design functions of the affected structural module in the auxiliary building are to provide support and protection for new and spent fuel and the equipment needed to support fuel handling, cooling, and storage in the spent fuel racks, and to provide support, protection, and separation for the seismic Category I mechanical and electrical equipment located outside the containment building. The design function of the shear studs is to transfer loads into the concrete of the structural modules. The proposed change corrects a drawing note regarding shear stud size and spacing for structural wall modules to be consistent with the underlying design basis calculations, which are more conservative. The thickness, geometry, and strength of the structures are not adversely altered. The properties of the concrete included in the modules are not altered. As a result, the design function of the structural modules is not adversely affected by the proposed change. There is no change to plant systems or the response of systems to postulated accident conditions. There is no change to the predicted radioactive releases due to normal operation or postulated accident conditions. The plant response to previously evaluated accidents or external events is not adversely affected, nor does the change described create any new accident precursors. Therefore, there is no significant increase in the probability or consequences of an accident previously evaluated.

2. Does the proposed amendment create the possibility of a new or different kind of accident from any accident previously evaluated?

Response: No

The proposed change corrects a drawing note regarding shear stud size and spacing for structural wall modules to be consistent with the underlying design basis calculations. Stud spacing and sizing are updated such that stud loadings are within acceptable limits and that the structural module acts in a composite manner. The thickness, geometry, and strength of the structures are not adversely altered. The material and thickness of the steel plates are not altered. The properties of the concrete included in the modules are not altered. The change to the internal design of the structural modules does not create any new accident precursors. As a result, the design function of the modules is not adversely affected by the proposed change. Therefore, the proposed change will not create the possibility of a new or different kind of accident from any accident previously evaluated.

3. Does the proposed amendment involve a significant reduction in a margin of safety?

Response: No

The criteria and requirements of the [American Institute of Steel Construction (AISC) Code] AISC-N690 provide a margin of safety to structural failure. The design of the shear studs for the structural wall modules conforms to criteria and requirements in AISC-N690 and therefore maintains the margin of safety. The proposed change corrects a drawing note regarding shear stud size and spacing for the structural wall modules so as to be consistent with the underlying design basis calculations. There was no change to the method of evaluation from that used in the design basis calculations. Therefore, the proposed change will not result in a significant reduction in a margin of safety in the design and analysis of the structural modules, including the containment internal structures and module CA20 in the auxiliary building.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Mark E. Tonacci.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Carolina Power and Light Company, Docket No. 50-261, H. B. Robinson Steam Electric Plant Unit No. 2, Darlington County, South Carolina

Date of application for amendment: January 20, 2011, as supplemented by letter dated February 23, 2012.

Brief description of amendment: The amendment revised Technical Specification (TS) 3.8.3, “Diesel Fuel Oil and Starting Air,” Condition D, changing the emergency diesel generator starting air receiver low air pressure limit from 100 pounds per square inch gauge (psig) to 150 psig, and corrects an editorial error related to the numbering format in TS 3.8.5, “DC Sources—Shutdown,” Limiting Condition for Operation (LCO) Condition A, Required Action, from A.1.1 to A.1.

Date of issuance: March 30, 2012.

Effective date: As of the date of issuance and shall be implemented within 60 days of issuance.

Amendment No.: 228.

Renewed Facility Operating License No. DPR-23. The amendment revised the TSs and the Facility Operating License.

Date of initial notice in Federal Register: April 19, 2011 (76 FR 21922). The February 23, 2012, supplement provided additional information that clarified the application, did not expand the scope of the application as originally noticed, and did not change the NRC staff's initial proposed no significant hazards consideration determination.

The Commission's related evaluation of the amendments is contained in a Safety Evaluation dated March 30, 2012.

No significant hazards consideration comments received: No.

Carolina Power and Light Company, et al., Docket No. 50-400, Shearon Harris Nuclear Power

Plant, Unit 1, Wake and Chatham Counties, North Carolina

Date of application for amendment: January 13, 2011, as supplemented by letters dated October 6, 2011, February 24, and March 20, 2012.

Brief description of amendment: The amendment revised Technical Specification (TS) 5.3.1 “Fuel Assemblies” to change the description of fuel assemblies and added the AREVA NP Inc. Topical Report BAW-10240(P)-A, “Incorporation of M5™ Properties in Framatome ANP Approved Methods,” to the analytical methods referenced in TS 6.9.1.6. “Core Operating Limits Report.” The amendment also deletes existing analytical methodologies that are no longer planned to be used by the licensee in TS 6.9.1.6.2 to allow the use of M5™ alloy for fuel rod cladding in future operating cycles.

Date of issuance: March 30, 2012.

Effective date: As of the date of issuance and shall be implemented within 90 days of issuance.

Amendment No. 137.

Renewed Facility Operating License No. NPF-63. Amendment revised the TSs.

Date of initial notice in Federal Register: April 19, 2011 (76 FR 21922). The October 6, 2011, February 24, and March 20, 2012, supplements provided additional information that clarified the application, did not expand the scope of the application as originally noticed and did not change the NRC staff's initial proposed no significant hazards consideration determination.

The Commission's related evaluation of the amendment is contained in a safety evaluation dated March 30, 2012.

No significant hazards consideration comments received: No.

Dominion Energy Kewaunee, Inc. Docket No. 50-305, Kewaunee Power Station, Kewaunee County, Wisconsin

Date of application for amendment: May 9, 2011, as supplemented by letters dated June 30, and October 31, 2011.

Brief description of amendment: The amendment revises the current licensing basis regarding the manner in which service water is supplied to the component cooling heat exchangers by the main return valves and the bypass flow control valves.

Date of issuance: March 28, 2012.

Effective date: As of the date of issuance and shall be implemented within 60 days.

Amendment No.: 211.

Facility Operating License No. DPR-43: The amendment revised the Updated Safety Analysis Report.

Date of initial notice in Federal Register: November 1, 2011 (76 FR 67487).

The Commission's related evaluation of the amendment is contained in a Safety Evaluation dated March 28, 2012.

No significant hazards consideration comments received: No.

Energy Northwest, Docket No. 50-397, Columbia Generating Station, Benton County, Washington

Date of application for amendment: March 3, 2011.

Brief description of amendment: The amendment revised Facility Operating License No. NPF-21 for the Columbia Generating Station. The changes either delete or modify existing license conditions which have been completed, modified, or are otherwise no longer in effect. The proposed changes were requested in order to support the Columbia license renewal effort.

Date of issuance: March 30, 2012.

Effective date: As of its date of issuance and shall be implemented within 30 days from the date of issuance.

Amendment No.: 223.

Facility Operating License No. NPF-21: The amendment revised the Facility Operating License.

Date of initial notice in Federal Register: May 31, 2011 (76 FR 31372).

The Commission's related evaluation of the amendment is contained in a Safety Evaluation dated March 30, 2012.

No significant hazards consideration comments received: No.

Entergy Operations, Inc., System Energy Resources, Inc., South Mississippi Electric Power Association, and Entergy Mississippi, Inc., Docket No. 50-416, Grand Gulf Nuclear Station, Unit 1 (GGNS), Claiborne County, Mississippi

Date of application for amendment: November 3, 2009, as supplemented by letters dated February 8, 2010, May 18, 2010, June 3, 2010, June 18, 2010, July 29, 2010, September 29, 2010, December 13, 2010, December 14, 2010, May 3, 2011, May 16, 2011, May 26, 2011, May 31, 2011, June 13, 2011, June 28, 2011, July 22, 2011, September 28, 2011, October 18, 2011, October 26, 2011, November 8, 2011, and December 1, 2011.

Brief description of amendment: The amendment revised the Technical Specifications (TSs) to reflect replacement of the existing Average Power Range Monitor (APRM), Local Power Range Monitor, and Flow Unit subsystems of the Neutron Monitoring System with a digital General Electric Hitachi Nuclear Measurement Analysis and Control (NUMAC) Power Range Neutron Monitoring System (PRNMS). The replacement system will also change GGNS's Oscillating Power Range Monitoring (OPRM) function from an Enhanced Option 1 A solution to Option III, which provides an automatic instability detect-and-suppress long-term reactor core stability solution. These changes are based on prior NRC approvals of licensing topical reports for NUMAC-based PRNMS equipment and other power plant experiences when performing similar changes. In addition, the amendment added a provision to the facility operating license that allows a monitoring period for the APRM scram function 2.f, “OPRM Upscale,” before this function's trip output to the reactor protection system trip system would be enabled. This license provision allows the limiting conditions for operation (LCOs) that would otherwise be associated with the “OPRM Upscale” function 2.f to be deferred until the monitoring period is complete and the OPRM trip output is permanently enabled. The amendment also revised the TSs in accordance with Technical Specification Task Force Traveler (TSTF) TSTF-493, Revision 4, “Clarify Application of Setpoint Methodology for LSSS [limiting safety system settings] Functions,” to add surveillance notes in accordance with option A of TSTF 493, Revision 4, to address instrumentation LCO issues that could occur during periodic testing and calibration of instrumentation.

Date of issuance: March 28, 2012.

Effective date: As of the date of issuance and shall be implemented prior to startup from refueling outage number 18.

Amendment No: 188.

Facility Operating License No. NPF-29: The amendment revised the Facility Operating License and Technical Specifications.

Date of initial notice in Federal Register: January 5, 2010 (75 FR 462). The supplemental letters dated February 8, 2010, May 18, 2010, June 3, 2010, June 18, 2010, July 29, 2010, September 29, 2010, December 13, 2010, December 14, 2010, May 3, 2011, May 16, 2011, May 31, 2011, June 13, 2011, June 28, 2011, July 22, 2011, September 28, 2011, October 18, 2011, October 26, 2011, November 8, 2011, and December 1, 2011, provided additional information that clarified the application, did not expand the scope of the application as originally noticed, and did not change the staff's original proposed no significant hazards consideration determination as published in the Federal Register.

The Commission's related evaluation of the amendment is contained in a Safety Evaluation dated March 28, 2012.

No significant hazards consideration comments received: No.

Exelon Generation Company, LLC, Docket Nos. 50-352 and 50-353, Limerick Generating Station, Units 1 and 2, Montgomery County, Pennsylvania

Date of application for amendments: June 14, 2011.

Brief description of amendments: The amendments revise Technical Specification (TS) 3.4.3.1, “Leakage Detection Systems,” for Limerick Generating Station, Units 1 and 2, to support the addition of an alternative method of verifying that unidentified leakage in the drywell is within limits. The alternate method uses the installed drywell equipment drain sump (DWEDS) monitoring system, with the drywell floor drain sump (DWFDS) overflowing to the DWEDS, to verify that Reactor Coolant System leakage in the drywell is within limits. This configuration would only be used when the DWFDS monitoring system is unavailable.

Date of issuance: March 29, 2012.

Effective date: As of the date of issuance, and shall be implemented within 60 days.

Amendment Nos.: 208 and 169.

Facility Operating License Nos. NPF-39 and NPF-85. These amendments revised the license and the technical specifications.

Date of initial notice in Federal Register: August 9, 2011 (76 FR 48912).

The Commission's related evaluation of the amendment is contained in Safety Evaluation dated March 29, 2012.

No significant hazards consideration comments received: No.

Attorney for licensee: J. Bradley Fewell, Esquire, Associate General Counsel, Exelon Generation Company, LLC, 4300 Winfield Road, Warrenville, IL 60555.

NRC Branch Chief: Meena Khanna.

Florida Power and Light Company, et al., Docket Nos. 50-335 and 50-389, St. Lucie Plant, Unit Nos. 1 and 2, St. Lucie County, Florida

Date of application for amendments: March 31, 2011.

Brief description of amendments: These amendments would revise the Technical Specifications (TSs) to define a new time limit for restoring inoperable Reactor Coolant System (RCS) leakage detection instrumentation to operable status; establish alternate methods of monitoring RCS leakage when one or more required monitors are inoperable; and make TS Bases changes that reflect the proposed changes and more accurately reflect the contents of the facility design basis related to operability of the RCS leakage detection instrumentation. Insofar as the St. Lucie Plant has custom TSs and TS Bases, to the extent practical, these changes are consistent with the U.S. Nuclear Regulatory Commission approved Revision 3 to TS Task Force Improved Standard TS Change Traveler TSTF-513, “Revise PWR [pressurized-water reactor] Operability Requirements and Actions for RCS Leakage Instrumentation.” The availability of this TS improvement was announced in the Federal Register on January 3, 2011 (76 FR 189), as part of the consolidated line item improvement process.

Date of Issuance: March 30, 2012.

Effective Date: As of the date of issuance and shall be implemented within 60 days of issuance.

Amendment Nos.: Unit 1—212 and Unit 2—161.

Renewed Facility Operating License Nos. DPR-67 and NPF-16: Amendments revised the Technical Specifications.

Date of initial notice in Federal Register: May 31, 2011 (76 FR 31374).

The Commission's related evaluation of the amendments is contained in a Safety Evaluation dated March 30, 2012.

Florida Power and Light Company, Docket Nos. 50-250 and 50-251, Turkey Point Plant, and Unit Nos. 3 and 4, Miami-Dade County, Florida

Date of application for amendments: July 16, 2010, as supplemented by letters dated July 18, 2011, August 1, 2011, October 27, 2011, and March 13, 2012.

Brief description of amendments: The amendments revised the Technical Specification requirements related to control room envelope habitability in accordance with Technical Specification Task Force (TSTF) Change Traveler TSTF-448, Revision 3, “Control Room Habitability.” TSTF-448 was made available by the NRC on January 17, 2007 (72 FR 2022) as part of the consolidated line item improvement process.

Date of issuance: March 30, 2012.

Effective date: As of the date of issuance and shall be implemented within 60 days of issuance.

Amendment Nos: Unit 3—248 and Unit 4—244.

Renewed Facility Operating License Nos. DPR-31 and DPR-41: Amendments revised the License and Technical Specifications.

Date of initial notice in Federal Register: January 25, 2011 (76 FR 4386). The supplements dated July 18, 2011, August 1, 2011, October 27, 2011, and March 13, 2012, provided additional information that clarified the application, did not expand the scope of the application as originally noticed, and did not change the staff's original proposed no significant hazards consideration determination as published in the Federal Register.

The Commission's related evaluation of the amendments is contained in a Safety Evaluation dated March 30, 2012.

No significant hazards consideration comments received: No.

Pacific Gas and Electric Company, Docket Nos. 50-275 and 50-323, Diablo Canyon Nuclear Power Plant, Unit Nos. 1 and 2, San Luis Obispo County, California

Date of application for amendment: March 28, 2011, as supplemented by letter dated February 5, 2012.

Brief description of amendment: The amendment revised TS 3.8.1, “AC [Alternating Current] Sources—Operating,” to incorporate Technical Specification Task Force (TSTF) change traveler TSTF-163, Revision 2, “Minimum vs. Steady State Voltage and Frequency,” dated April 22, 1998. The amendments also revised the Final Safety Analysis Report Update (FSAR Update) to identify an exception to Revision 0 of NRC Regulatory Guide (RG) 1.9, “Application and Testing of Safety-Related Diesel Generators in Nuclear Power Plants” (issued as NRC Safety Guide 9, “Selection of Diesel Generator Set Capacity for Standby Power Supplies,” dated March 10, 1971).

The TS 3.8.1 surveillance requirements were revised per TSTF-163, Revision 2, to verify minimum frequency and voltage, and steady state frequency and voltage within limits following diesel generator start. The FSAR Update is revised to specify an exception to RG 1.9, Revision 0, Regulatory Position C.4, for frequency recovery for the Auxiliary Feedwater pump loading for DGs 1-1, 1-3, 2-2, and 2-3.

Date of issuance: March 29, 2012.

Effective date: As of its date of issuance and shall be implemented within 120 days from the date of issuance. Implementation of the amendments shall also include revision of the Final Safety Analysis Report Update as described in the licensee's letter dated March 28, 2011.

Amendment Nos.: Unit 1—211; Unit 2—213.

Facility Operating License Nos. DPR-80 and DPR-82: The amendments revised the Facility Operating Licenses and Technical Specifications.

Date of initial notice in Federal Register: May 31, 2011 (76 FR 31375). The supplemental letter dated February 5, 2012, provided additional information that clarified the application, did not expand the scope of the application as originally noticed, and did not change the staff's original proposed no significant hazards consideration determination as published in the Federal Register.

The Commission's related evaluation of the amendments is contained in a Safety Evaluation dated March 29, 2012.

No significant hazards consideration comments received: No.

Southern Nuclear Operating Company, Inc., Docket Nos. 50-348 and 50-364, Joseph M. Farley Nuclear Plant, Units 1 and 2, Houston County, Alabama

Date of application for amendment: April 29, 2011, as supplemented October 21, 2011.

Brief description of amendment t: The amendments revise the Technical Specification (TS) section 3.4.15 RCS Reactor Coolant System Leakage Detection Instrumentation, in accordance with the Technical Specification Task Force Traveler TSTF-513-A, Revision 3, titled “Revise PWR [Pressurized-Water Reactor] Operability Requirements and Actions for RCS Leakage [detection] Instrumentation.” Specifically, the proposed amendment would revise the TS to define a new time limit for restoring inoperable RCS leakage detection instrumentation to operable status and establish alternate methods of monitoring RCS leakage when one or more required monitors are inoperable.

Date of Issuance: March 20, 2012.

Effective date: As of the date of issuance and shall be implemented within 60 days.

Amendment Nos: Unit 1—187 and Unit 2—182.

Renewed Facility Operating License Nos. NPF-2 and NPF-8: Amendment revises the Licenses and Technical Specifications.

Date of notice in Federal Register: June 14, 2011 (76 FR 34768).

The Commission's related evaluation of the amendment is contained in a Safety Evaluation dated March 20, 2012.

No significant hazards consideration comments received.

Wolf Creek Nuclear Operating Corporation, Docket No. 50-482, Wolf Creek Generating Station, Coffey County, Kansas

Date of amendment request: April 22, 2011.

Brief description of amendment: The amendment approved changes to Technical Specification (TS) 5.3, “Unit Staff Qualifications,” by making two administrative changes to TS 5.3.1.1. Specifically, the changes removed the operator license applicants' education and experience eligibility requirements, and corrected inadvertent omissions in previous amendments relative to the Licensed Operators' and Senior Operators' qualification requirements.

Date of issuance: April 2, 2012.

Effective date: This license amendment is effective as of the date of its issuance and shall be implemented within 90 days of the date of issuance.

Amendment No.: 198.

Renewed Facility Operating License No. NPF-42. The amendment revised the Operating License and Technical Specifications.

Date of initial notice in Federal Register: August 23, 2011 (76 FR 52705).

The Commission's related evaluation of the amendment is contained in a Safety Evaluation dated April 2, 2012.

No significant hazards consideration comments received: No.

Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR Reference staff at 1-800-397-4209, 301-415-4737 or by email to pdr.resource@nrc.gov.

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR part 2. Interested person(s) should consult a current copy of 10 CFR 2.309, which is available at the NRC's PDR, located at One White Flint North, Room O1-F21, 11555 Rockville Pike (first floor), Rockville, Maryland 20852, and electronically on the Internet at the NRC Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A requestor/petitioner who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a requestor/petitioner seeks to adopt the contention of another sponsoring requestor/petitioner, the requestor/petitioner who seeks to adopt the contention must either agree that the sponsoring requestor/petitioner shall act as the representative with respect to that contention, or jointly designate with the sponsoring requestor/petitioner a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in the NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital information (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through Electronic Information Exchange System, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Southern Nuclear Operating Company, Inc., Docket Nos. 50-348 and 50-364, Joseph M. Farley Nuclear Plant, Units 1 and 2, Houston County, Alabama

Date of amendment request: February 28, as supplemented March 2 and March 9, 2012.

Description of amendment request: This amendment revised the FNP Technical Specification (TS) 3.5.4, “Refueling Water Storage Tank,” to permit the use of a seismically qualified boundary valve under administrative controls for limited periods of time.

Date of issuance: March 24, 2012.

Effective date: April 23, 2012.

Amendment Nos.: Unit 1—188 and Unit 2—183.

Renewed Facility Operating License Nos. NPF-2 and NPF-8: Amendment revises the technical specifications.

Public comments requested as to proposed no significant hazards consideration (NSHC): Yes. 77 FR 14441. The notice provided an opportunity to submit comments on the Commission's proposed NSHC determination. No comments have been received. The notice also provided an opportunity to request a hearing by May 8, 2012, but indicated that if the Commission makes a final NSHC determination, any such hearing would take place after issuance of the amendment.

The Commission's related evaluation of the amendment, finding of exigent circumstances, state consultation, and final NSHC determination are contained in a safety evaluation dated March 24, 2012.

Attorney for licensee: M. Stanford Blanton, Balch and Bingham Law Firm, P.O. Box 306, Birmingham, Alabama 35201.

NRC Branch Chief: Nancy L. Salgado.

Dated at Rockville, Maryland, this 5th day of April 2012.
For the Nuclear Regulatory Commission.
Allen G. Howe,
Deputy Director, Division of Operating Reactor Licensing, Office of Nuclear Reactor Regulation.

[FR Doc. 2012-9169 Filed 4-16-12; 8:45 am]

BILLING CODE 7590-01-P